NUCLEAR REGULATORY COMMISSION

[Docket No. NRC-2014-0015]

Agency Information Collection Activities: Proposed Collection; Comment Request

AGENCY: Nuclear Regulatory Commission.

ACTION: Notice of pending NRC action to submit an information collection request to the Office of Management and Budget (OMB) and solicitation of public comment.

SUMMARY: The U.S. Nuclear Regulatory Commission (NRC) invites public comment about our intention to request the OMB's approval for renewal of an existing information collection that is summarized below. We are required to publish this notice in the Federal Register under the provisions of the Paperwork Reduction Act of 1995 (44 U.S.C. Chapter 35).

Information pertaining to the requirement to be submitted:

1. The title of the information collection: NRC Form 5, “Occupational Dose Record for a Monitoring Period.”

2. Current OMB approval number: 3150-0006.

3. How often the collection is required: Annually.

4. Who is required or asked to report: NRC licensees who are required to comply with Part 20 of Title 10 of the Code of Federal Regulations (10 CFR).

5. The number of annual respondents: 4,146 respondents (104 reactors plus 4,042 materials licensees).

6. The number of hours needed annually to complete the requirement or request: 130,852 hours (6,000 hours reporting plus 124,852 hours recordkeeping).

7. Abstract: The NRC Form 5 is used to record and report the results of individual monitoring for occupational radiation exposure during a monitoring (one-calendar year) period to ensure regulatory compliance with annual radiation dose limits specified in 10 CFR 20.1201.

Submit, by April 7, 2014, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

The public may examine and have copied for a fee, publicly-available documents, including the draft supporting statement, at the NRC's Public Document Room, Room O-1F21, One White Flint North, 11555 Rockville Pike, Rockville, Maryland 20852. The OMB clearance requests are available at the NRC's Web site: http://www.nrc.gov/public-involve/doc-comment/omb/.

The document will be available on the NRC's home page site for 60 days after the signature date of this notice. Comments submitted in writing or in electronic form will be made available for public inspection. Because your comments will not be edited to remove any identifying or contact information, the NRC cautions you against including any information in your submission that you do not want to be publicly disclosed. Comments submitted should reference Docket No. NRC-2014-0015. You may submit your comments by any of the following methods: Electronic comments to http://www.regulations.gov and search for Docket No. NRC-2014-0015. Mail comments to the Acting NRC Clearance Officer, Kristen Benney (T-5 F53), U.S. Nuclear Regulatory Commission, Washington, DC 20555-0001.

Questions about the information collection requirements may be directed to the Acting NRC Clearance Officer, Kristen Benney (T-5 F53), U.S. Nuclear Regulatory Commission, Washington, DC 20555-0001, by telephone at 301-415-6355, or by email to INFOCOLLECTS.Resource@NRC.GOV.

Dated at Rockville, Maryland, this 30th day of January, 2014.
For the Nuclear Regulatory Commission.
Kristen Benney,
Acting NRC Clearance Officer, Office of Information Services.

[FR Doc. 2014-02365 Filed 2-4-14; 8:45 am]

BILLING CODE 7590-01-P